DEPARTMENT OF LABOR

Office of the Secretary

Submission for OMB Review; Comment Request

April 10, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ESA, and PWBA contact Marlene Howze ((202) 693-4120 or by email to Howze-Marlene@dol.gov). To obtain documentation for ETA, MSHA, OSHA, and VETS contact Darrin King ((202) 693-4129 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected, and

• Minimize the burden of the collection of information on those who are to respond, including through the use of appropriate automated, electronic, mechanical, or other technological collection techniques or other forms of information technology, e.g., permitting electronic submission of responses.

Type of Review: New Collection.

Agency: Bureau of Labor Statistics (BLS).

Title: Survey of Respirator Use and Practices.

OMB Number: 1220-0NEW.

Affected Public: Business or other for-profit; farms; and not-for-profit institutions.

Frequency: One-time.

Number of Respondents: 40,000.

Number of Annual Responses: 40,000.

Estimated Time Per Response: 30 minutes.

Total Burden Hours: 20,000.

Total Annualized Capital/Startup Costs: 50.

Total Annual Costs (operating/maintaining systems or purchasing services): $0.

Description: The National Institute for Occupational Safety and Health (NIOSH) and the Bureau of Labor Statistics (BLS), U.S. Department of Labor (DOL) have agreed to conduct a survey of United States employers regarding the use of the respiratory protective devices. NIOSH needs more in-depth usage data to evaluate standards (29 CFR 1910.134, Respiratory Protection) and to pinpoint areas where education and training efforts are needed. NIOSH will use the information obtained by BLS from the survey to identify industrial sector and establishment size: (1) The distribution of respirator use, (2) the types of respirators used, (3) the hazards that respirators are used against, (4) the training of respirator users, (5) the extent medical examinations are used to qualify workers for respirator use for all respirator users, (6) the extent fit testing is used to qualify workers for respirator use, (7) the conductor of fit testing by users, (8) the distribution of fit test methods, (9) the training level of respirator program administrators, (10) the characteristics of respirator programs; and (11) the usefulness of an NIOSH certification label.

The findings of the survey will permit direction and evaluation of efforts to protect workers. It will give researchers information to develop educational interventions for specific populations to improve respirator use in the workplace.

Ira L. Mills,
Departmental Clearance Officer.

[FR Doc. 01-10829 Filed 4-30-01; 8:45 am]

BILLING CODE 4510-24-M